DEPARTMENT OF ENERGY

Federal Energy Regulatory Commission

[Project No. 2876-005]

California Department of Water Resources; Notice of Intent To File License Application, Filing of Pre-Application Document, and Approving Use of the Traditional Licensing Process

a. Type of Filing: Notice of Intent to File License Application and Request to Use the Traditional Licensing Process.

b. Project No.: 2876-005.

c. Date Filed: February 1, 2024.

d. Submitted By: California Department of Water Resources (DWR).

e. Name of Project: Pine Flat Transmission Line.

f. Location: Near the Kings River in Fresno County, California.

g. Filed Pursuant to: 18 CFR 5.3 of the Commission's regulations.

h. Potential Applicant Contact: Jeremiah McNeil, Manager, California Department of Water Resources, Hydropower License Planning and Compliance Office, P.O. Box 942836, Sacramento CA 94236-0001; (916) 699-8414; email: Jeremiah.McNeil@water.ca.gov.

i. FERC Contact: Shannon Archuleta at (202) 552-2739 or email at shannon.archuleta@ferc.gov.

j. DWR filed its request to use the Traditional Licensing Process on February 1, 2024. DWR provided public notice of its request on February 15, 2024. In a letter dated March 22, 2024, the Acting Director of the Division of Hydropower Licensing approved DWR's request to use the Traditional Licensing Process.

k. With this notice, we are initiating informal consultation with the U.S. Fish and Wildlife Service under section 7 of the Endangered Species Act and the joint agency regulations thereunder at 50 CFR part 402. We are also initiating consultation with the California State Historic Preservation Officer, as required by section 106, National Historical Preservation Act, and the implementing regulations of the Advisory Council on Historic Preservation at 36 CFR 800.2.

l. With this notice, we are designating DWR as the Commission's non-federal representative for carrying out informal consultation, pursuant to section 7 of the Endangered Species Act and section 106 of the National Historic Preservation Act.

m. DWR filed a Pre-Application Document (PAD; including a proposed process plan and schedule) with the Commission, pursuant to 18 CFR 5.6 of the Commission's regulations.

n. A copy of the PAD may be viewed and/or printed on the Commission's website http://www.ferc.gov using the “eLibrary” link. Enter the docket number, excluding the last three digits in the docket number field to access the document. For assistance, contact FERC at FERCOnlineSupport@ferc.gov or call toll free, (886) 208-3676 or TTY, (202) 502-8659.

You may register online at https://ferconline.ferc.gov/FERCOnline.aspx to be notified via email of new filings and issuances related to this or other pending projects. For assistance, contact FERC Online Support.

o. The licensee states its unequivocal intent to submit an application for a subsequent license for Project No. 2876. Pursuant to 18 CFR 16.20 each application for a subsequent license and any competing license applications must be filed with the Commission at least 24 months prior to the expiration of the existing license. All applications for license for this project must be filed by August 31, 2027.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 22, 2024.
Debbie-Anne A. Reese,
Acting Secretary.

[FR Doc. 2024-06637 Filed 3-27-24; 8:45 am]

BILLING CODE 6717-01-P